DEPARTMENT OF AGRICULTURE

Food and Nutrition Service

Agency Information Collection Activities: Proposed Collection; Comment Request; State Administrative Expense Funds

AGENCY: Food and Nutrition Service (FNS), USDA.

ACTION: Notice.

SUMMARY: In accordance with the Paperwork Reduction Act of 1995, this notice invites the general public and other public agencies to comment on this information collection. This collection is a revision of a currently approved collection for State administrative expense funds expended in the operation of the Child Nutrition Programs (7 CFR parts 210, 215, 220, 226 and 250) administered under the Child Nutrition Act of 1966. The current approval for the information collection burden associated with 7 CFR part 235 expires on May 31, 2016.

DATES: Written comments must be received on or before April 25, 2016.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to Steve Hortin, Chief, Operational Support Branch, Food and Nutrition Service, U.S. Department of Agriculture, 3101 Park Center Drive, Room 632, Alexandria, VA 22302-1594. Comments will also be accepted through the Federal eRulemaking Portal. Go to http://www.regulations.gov, and follow the online instructions for submitting comments electronically. All responses to this notice will be summarized and included in the request for Office of Management and Budget (OMB) approval, and will become a matter of public record.

FOR FURTHER INFORMATION CONTACT: Requests for additional information or copies of this information collection should be directed to Sarah Smith-Holmes at (703) 605-3223.

SUPPLEMENTARY INFORMATION: Title: 7 CFR part 235—State Administrative Expense Funds.

Form Numbers: FNS-74, FNS-525.

OMB Number: 0584-0067.

Expiration Date: May 31, 2016.

Type of Request: Revision of a currently approved collection.

Abstract: Section 7 of the Child Nutrition Act of 1966 (Pub. L. 89-642), 42 U.S.C. 1776, authorizes the Department to provide Federal funds to State agencies (SAs) for administering the Child Nutrition Programs (7 CFR parts 210, 215, 220, 226 and 250). State Administrative Expense (SAE) Funds, 7 CFR part 235, sets forth procedures and recordkeeping requirements for use by SAs in reporting and maintaining records of their need and use of SAE funds. A summary of the reporting and recordkeeping burden associated with this revision is presented in the table below. For this revision, the number of State Agencies was updated (decreased from 87 to 84) resulting in a decrease of 321 recordkeeping burden hours. The burden for maintaining accounting records was adjusted to more accurately reflect the average frequency of updating records due to electronic system processing resulting in a decrease of 5,564 recordkeeping hours. The burden of documenting expenditures of funds from State sources in any fiscal year for the administration of CNP is already accounted for in the quarterly recordkeeping for the FNS-777; therefore, the burden for this recordkeeping requirement has been decreased by 856 hours. The burden associated with form FNS-777, Financial Status Report, was removed since the burden for this form has been approved under the information collection for the Food Program Reporting System (FPRS), OMB Control Number 0584-0594, which expires June 30, 2017, resulting in a decrease of 174 reporting hours. The burden associated with form FNS-525, State Administrative Expense Funds Reallocation Report, is proposed for removal and transfer to the FPRS information collection to accommodate electronic reporting of the data resulting in a transfer of 308 reporting hours. These revisions result in a net decrease of 7,223 total burden hours. Revisions to the update form FNS-74, Federal-State Agreement, are also being proposed. The revised FNS-74 form is included in the Supporting Documents to this notice on www.regulations.gov.

Affected Public: State Agencies.

Estimated Number of Respondents: 84.

Estimated Number of Responses per Respondent: 40.297.

Estimated Total Annual Responses: 3,385.

Estimated Hours per Response: 1.869.

Estimated Total Hours Annual Reporting Burden: 315.

Estimated Total Hours Annual Recordkeeping Burden: 6,010.

Estimated Total Annual Burden: 6,325.

Current OMB Inventory: 13,548.

Difference (requested with this renewal): −7,223.

Refer to the following table for estimated annual burden for each type of respondent:

Affected public | Estimated number of respondents | Number of responses per respondent | Estimated total annual responses | Estimated hours per response | Estimated total annual burden
Reporting
State Agencies | 84 | 1.917 | 161 | 1.955 | 315
Total Estimated Reporting Burden | 84 |  | 161 |  | 315
Recordkeeping
State Agencies | 84 | 38.381 | 3,224 | 1.864 | 6,010
Total Estimated Recordkeeping Burden | 84 |  | 3,224 |  | 6,010
Total of Reporting and Recordkeeping
Reporting | 84 | 1.917 | 161 | 1.955 | 315
Recordkeeping | 84 | 38.38 | 3,224 | 1.864 | 6,010
Total | 84 |  | 3,385 |  | 6,325

Dated: February 9, 2016.
Audrey Rowe,
Administrator, Food and Nutrition Service.

[FR Doc. 2016-03788 Filed 2-22-16; 8:45 am]

BILLING CODE 3410-30-P